POSTAL RATE COMMISSION

Plant Tour

AGENCY: Postal Rate Commission.

ACTION: Notice of Commission tour.

SUMMARY: Postal Rate Commission personnel will observe operations at the United States Postal Service facility in Merrifield, Virginia on Thursday, May 19, 2005, between 3 a.m. and 6 a.m.; and on Wednesday, May 25, 2005, between 8 p.m. and 11 p.m.

DATES: May 19, 2005; May 25, 2005.

FOR FURTHER INFORMATION CONTACT: Stephen Sharfman, Postal Rate Commission, 202-789-6820.

Steven W. Williams,
Secretary.

[FR Doc. 05-9699 Filed 5-13-05; 8:45 am]

BILLING CODE 7710-FW-M